OFFICE OF PERSONNEL MANAGEMENT

Submission for Review: Reinstatement of a Previously Approved Information Collection Without Change, Standard Form 2812, 2812-A, and OPM Form 1523

AGENCY: Office of Personnel Management.

ACTION: 60-day notice and request for reinstatement.

SUMMARY: The Office of Personnel Management (OPM) offers the general public and other Federal agencies the opportunity to comment on a revised information collection request (ICR) for Standard Form 2812, 2812-A and OPM Form 1523. Reinstatement will allow continued use of the collection and an additional 180 days to complete the full Paperwork Reduction Act approval process.

DATES: Comments are encouraged and will be accepted until April 23, 2018.

ADDRESSES: Interested persons are invited to submit written comments on the proposed information collection to the U.S. Office of Personnel Management, Funds Management, 1900 E Street NW, Washington, DC 20415-3500, Attention: Antoinette Cunningham or sent by email to Antoinette.Cunningham@opm.gov.

FOR FURTHER INFORMATION CONTACT: A copy of this ICR, with applicable supporting documentation, may be obtained by mail at the U.S. Office of Personnel Management, Chief Financial Office, Financial Services, 1900 E Street NW, Room 5478, Washington, DC 20415, Attention: Antoinette Cunningham, by email at Antoinette.Cunningham@opm.gov, or by phone at (202) 606-7119.

SUPPLEMENTARY INFORMATION: As required by the Paperwork Reduction Act of 1995, (Pub. L. 104-13, 44 U.S.C. chapter 35) as amended by the Clinger-Cohen Act (Pub. L. 104-106), OPM is soliciting comments for this collection (OMB No. 3206-0262). The Middle Class Tax Relief and Job Creation Act of 2012 (Pub. L. 112-96, Section 5001), made two significant changes to the Federal Employees' Retirement System (FERS). First, beginning in 2013, new employees (as designated in the statute) will have to pay significantly higher employee contributions, an increase of 2.3 percent of salary. Second, new Members of Congress and Congressional employees, in addition to paying higher retirement contributions, will accrue retirement benefits at the same rate as regular employees. New employees affected by this law will be classified in a new retirement category; the Federal Employees' Retirement System—Revised Annuity Employees (FERS-RAE). The current Standard Form 2812, Standard Form 2812-A, and OPM Form 1523, have been changed to reflect this additional category.

Reinstatement will allow continued use of the collection and an additional 180 days to complete the full Paperwork Reduction Act approval process. The Office of Personnel Management is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Trust Fund Management of the Office of the Chief Financial Officer, Office of Personnel Management.

Title: (1) Report of Withholdings and Contributions for Health Benefits, Life Insurance and Retirement (Standard Form 2812); (2) Report of Withholdings and Contributions for Health Benefits by Enrollment Code (Standard Form 2812-A); (3) Supplemental Semiannual Headcount Report (OPM Form 1523).

OMB Number: 3206-0262.

Frequency: Semiannually for OPM Form 1523 and once-per-pay-period for Standard Form 2812 and Standard Form 2812-A.

Affected Public: Public Entities with Federal Employees and Retirees.

Number of Respondents: 100.

Estimated Time per Respondent: 30 Minutes.

Total Burden Hours: 2700.

Kathleen M. McGettigan,
Acting Director, U.S. Office of Personnel Management.

[FR Doc. 2018-03439 Filed 2-20-18; 8:45 am]

BILLING CODE 6325-23-P